INTERNATIONAL TRADE COMMISSION

[Investigations Nos. 701-TA-417-421 and 731-TA-953, 954, 956-959, 961, and 962 (Final)]

Carbon and Certain Alloy Steel Wire Rod From Brazil, Canada, Germany, Indonesia, Mexico, Moldova, Trinidad and Tobago, Turkey, and Ukraine

AGENCY: United States International Trade Commission.

ACTION: Revised schedule for the subject investigations.

EFFECTIVE DATE: May 15, 2002.

FOR FURTHER INFORMATION CONTACT: Mary Messer (202-205-3193), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for these investigations may be viewed on the Commission's electronic docket (EDIS-ON-LINE) at http://dockets.usitc.gov/eol/public.

SUPPLEMENTARY INFORMATION: Effective April 10, 2002, the Commission established a schedule for the conduct of the final phase of the subject investigations (67 FR 22105, May 2, 2002) based on the scheduled date of the earliest final determination by the Department of Commerce (Commerce) in the subject investigations. Commerce aligned the final countervailing duty determinations with the earliest final determination in the subject antidumping duty investigations (67 FR 12524, March 19, 2002) and subsequently extended the date for its final determinations in the subject antidumping duty investigations from June 17, 2002, to August 23, 2002 (67 FR 17367, April 10, 2002; 67 FR 17379, April 10, 2002; 67 FR 17389, April 10, 2002; 67 FR 18165, April 15, 2002; 67 FR 20728, April 26, 2002; and 67 FR 32013, May 13, 2002). The Commission, therefore, is revising its schedule to conform with Commerce's new schedule.

The Commission's new schedule for the investigations is as follows: requests to appear at the hearing must be filed with the Secretary to the Commission not later than August 19, 2002; the prehearing conference will be held at the U.S. International Trade Commission Building at 9:30 a.m. on August 22, 2002; the prehearing staff report will be placed in the nonpublic record on August 14, 2002; the deadline for filing prehearing briefs is August 21, 2002; the hearing will be held at the U.S. International Trade Commission Building at 9:30 a.m. on August 27, 2002; the deadline for filing posthearing briefs is September 4, 2002; the Commission will make its final release of information on September 18, 2002; and final party comments are due on September 20, 2002.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: May 17, 2002.
By order of the Commission.
Marilyn R. Abbott,
Secretary.

[FR Doc. 02-12820 Filed 5-21-02; 8:45 am]

BILLING CODE 7020-02-P